DEPARTMENT OF THE INTERIOR

National Park Service

[NPS-NERO-CACO-20695; PPNECACOS0, PPMPSD1Z.YM0000]

Request for Nominations for the Cape Cod National Seashore Advisory Commission

AGENCY: National Park Service, Interior.

ACTION: Request for nominations.

SUMMARY: The National Park Service (NPS), U.S. Department of the Interior, proposes to appoint new members to the Cape Cod National Seashore Advisory Commission (Commission). The NPS is requesting nominations for qualified persons to serve as members of the Commission.

DATES: Written nominations must be received by June 13, 2016.

ADDRESSES: Nominations or request for further information should be sent to George E. Price, Jr., Superintendent, Cape Cod National Seashore, 99 Marconi Site, Wellfleet, Massachusetts 02667, or via telephone at (508) 771-2144.

FOR FURTHER INFORMATION CONTACT: Further information may be obtained from George E. Price, Jr., Superintendent, Cape Cod National Seashore, 99 Marconi Site, Wellfleet, Massachusetts 02667, or via telephone at (508) 771-2144.

SUPPLEMENTARY INFORMATION: The Cape Cod National Seashore was established June 1, 1966, in accordance with 16 U.S.C. 459b-2 et seq. Section 459b-7 established the Commission to consult with the Secretary of the Interior, or the Secretary's designee, with respect to matters relating to the development of the Cape Cod National Seashore, and with respect to carrying out the provisions of Sections 4 and 5 of the Act establishing the Seashore.

The Commission is composed of 10 members appointed by the Secretary of the Interior for 2-year terms, as follows: (a) Six members from recommendations made by the boards of selectmen of the towns of Chatham, Eastham, Orleans, Provincetown, Truro and Wellfleet, in the Commonwealth of Massachusetts, one member from the recommendations made by each such board; (b) one member from recommendations of the county commissioners of Barnstable County, Commonwealth of Massachusetts; (c) two members from recommendations of the Governor of the Commonwealth of Massachusetts; and (d) one member appointed at the discretion of the Secretary.

We are currently requesting nominations for the last of these categories.

Nominations should be typed and should include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members may be allowed travel expenses, including per diem in lieu of subsistence, in the same manner as persons employed intermittently in Government service are allowed such expenses under 5 U.S.C. 5703.

Individuals who are Federally registered lobbyists are ineligible to serve on all Federal Advisory Committee Act (FACA) and non-FACA boards, committees, or councils in an individual capacity. The term “individual capacity” refers to individuals who are appointed to exercise their own individual best judgment on behalf of the government, such as when they are designated Special Government Employees, rather than being appointed to represent a particular interest.

All nominations must be compiled and submitted in one complete package. Incomplete submissions (missing one or more of the items described above) will not be considered.

Dated: April 29, 2016.
Alma Ripps,
Chief, Office of Policy.

[FR Doc. 2016-11372 Filed 5-12-16; 8:45 am]

BILLING CODE 4310-EE-P